DEPARTMENT OF HEALTH AND HUMAN SERVICES

Health Resources and Services Administration

Agency Information Collection Activities: Submission to OMB for Review and Approval; Public Comment Request; Maternal and Child Health Bureau Performance Measures for Discretionary Grant Information System, OMB No. 0915-0298—Revision

AGENCY: Health Resources and Services Administration (HRSA), Department of Health and Human Services.

ACTION: Notice.

SUMMARY: In compliance with the requirement for opportunity for public comment on proposed data collection projects of the Paperwork Reduction Act of 1995, HRSA is submitting a request for public comment on redesigned Maternal and Child Health Bureau (MCHB) Performance Measures for Discretionary Grant Information System (DGIS) forms. The purpose of the redesigned DGIS forms is to facilitate higher quality data collection and develop streamlined, clear DGIS metrics to support communications about the range of HRSA's maternal and child health (MCH) programs. Proposed revisions include eliminating 52 forms, adding 25 new forms, and revising 23 existing forms. In addition, three forms have not undergone substantive revisions since the previously approved Office of Management and Budget (OMB) package and are included in the time burden estimate. HRSA seeks comments from the public regarding the burden estimate, below, or any other aspect of the Information Collection Request (ICR).

DATES: Comments on this ICR must be received no later than July 3, 2023.

ADDRESSES: Submit your comments to paperwork@hrsa.gov or mail the HRSA Information Collection Clearance Officer, Room 14N136B, 5600 Fishers Lane, Rockville, MD 20857.

FOR FURTHER INFORMATION CONTACT: To request more information on the proposed project or to obtain a copy of the data collection plans and draft instruments, email Samantha Miller, the HRSA Information Collection Clearance Officer, at paperwork@hrsa.gov or call 301-594-4394.

SUPPLEMENTARY INFORMATION: When submitting comments or requesting information, please include the information request collection title for reference.

Information Collection Request Title: MCHB Performance Measures for DGIS, OMB No. 0915-0298 Revision.

Abstract: Approval from OMB is sought to implement revisions to the MCHB Performance Measures for DGIS. The goals of the redesigned performance measures are to: (1) improve clarity and validity of DGIS forms; (2) increase alignment with MCHB's Strategic Plan and other performance measurement efforts; (3) produce timely, actionable data for program management; (4) support communications about the range of HRSA's MCH programs; (5) reduce the number and complexity of data collection forms; and (6) improve data quality.

The revised forms are grouped into two general categories: central measures and program specific measures. Central measures include basic, topical, activity, and outcome forms. There are also four sets of program-specific forms. Grant programs are assigned forms based on their activities and individual grantees respond to only a limited number of forms that are relevant to their specific program. Many of these forms are specific to certain types of programs and are not required of all grantees.

Forms are proposed to be added, removed, or revised beyond what was specified in the Federal Register notice (87 FR 35220) published on June 9, 2022. Many of the changes are a result of the redesigned categorization of measures. For example, the proposed set of activity forms capture common types of activities conducted across MCHB investments and replace the set of Population Domain forms (Adolescent Health, Capacity Building, Child Health, Children with Special Health Care Needs (CSHCN), Life Course/Cross Cutting, Maternal/Women Health, and Perinatal/Infant Health). The proposed set of basic forms consolidate and simplify the set of financial forms (Form 1, 3, 5, 7, and 8). Other changes reflect efforts to reduce burden or the need to relocate measures from the Population Domain forms to program-specific forms (i.e., Healthy Start). Specifically, HRSA is making the following changes to the current information collection for DGIS:

Removing the following 52 existing forms: Capacity Building (CB) 1 (State Capacity for Advancing the Health of MCH Populations), CB 3 (Impact Measurement), CB 4 (Sustainability), CB 5 (Scientific Publications), CB 6 (Products), CB 8 (Quality Improvement), Women's/Maternal Health (WMH) 1 (Prenatal Care), WMH 2 (Perinatal/Postpartum Care), WMH 3 (Well Woman Visit/Preventive Health Care), WMH 4 (Depression Screening), Perinatal Infant Health (PIH) 1 (Safe Sleep), PIH 2 (Breast Feeding), PIH 3 (Newborn Screening), Child Health (CH) 1 (Well Child Visit), CH 2 (Quality of Well Child Visit), CH 3 (Developmental Screening), CH 4 (Injury Prevention), CSHCN 1 (Family Engagement), CSHCN 2 (Access to and Use of Medical Home), CSHCN 3 (Transition to Adult Health Care), Adolescent Health (AH) 1 (Adolescent Well Visit), AH 2 (Injury Prevention), AH 3 (Screening for Major Depressive Disorder), Life Course/Cross Cutting (LC) 1 (Adequate Health Insurance Coverage), LC 2 (Tobacco and eCigarette Cessation), LC 3 (Oral Health), Division of Workforce Development (Training) 01 (MCH Training Program and Healthy Tomorrows Family Member/Youth/Community Member Participation), Training 05 (Policy), Training 06 (Diversity of Long-Term Trainees), Training 10 (Leadership), Training 11 (Work with MCH Populations), Training 12 (Interdisciplinary Practice), Emergency Medical Services for Children (EMSC) 01 (Using NEMSIS Data to Identify Pediatric Patient Care Needs), EMSC 02 (Pediatric Emergency Care Coordination), EMSC 03 (Use of Pediatric-Specific Equipment), EMSC 05 (Pediatric Traumatic Emergencies), EMSC 06 (Written Inter-facility Transfer Guidelines that Contain All the Components as per the Implementation Manual), EMSC 07 (Written Inter-facility Transfer Agreements That Covers Pediatric Patients), Healthy Start (HS) 01 (Reproductive Life Plan), HS 02 (Usual Source of Care), HS 03 (Interconception Planning), HS 05 (Father/Partner Involvement during Pregnancy), HS 06 (Father and/or Partner Involvement with Child 0-24 Months), HS 07 (Daily Reading), HS 08 (CAN Implementation), HS 09 (CAN Participation), Form 3 (Budget Details by Types of Individuals Served), Form 5 (Number of Individuals Served (Unduplicated)), Form 7 (Discretionary Grant Project Summary Data and Demographics), Form 9 (Program-Specific Project Performance/Outcome Measures), Technical Assistance/Collaboration Form, and Continuing Education Form.

Adding the following 25 new forms: Direct and Enabling Services, Training and Workforce Development, Partnerships and Collaboration, Engagement of Persons with Lived Experience, Technical Assistance, Outreach and Education, Research, Guidelines and Policy, Data and Information Systems, Quality Improvement and Evaluation, Knowledge Change, Behavior Change, EMSC 10 (Prehospital Emergency Medical Services Pediatric Readiness Recognition Program), HS 10 (Prenatal Care), HS 11 (Perinatal/Postpartum Care), HS 12 (Well Woman Visit/Preventive Health Care), HS 13 (Depression Screening), HS 14 (Safe Sleep), HS 15 (Breastfeeding), HS 16 (Well Child Visit), HS 17 (Adequate Health Insurance Coverage), HS 18 (Prenatal Tobacco and eCigarette Use), HS 19 (Low Birthweight), HS 20 (Preterm Birth), and HS 21 (Infant Mortality).

Revising the following 23 existing forms: Health Equity, Healthy Start Site Form, Family to Family Form 1, Financial Form (MCHB Project Budget Details), Project Abstract (MCH Discretionary Grant Project Abstract), Project Abstract-Research Projects Only, Form 10 (Program-Specific and Project Developed Measures), Products, Publications, and Submissions Data Collection Form, Faculty and Staff Information, Short-Term Trainees, Medium-Term Trainees, Long-Term Trainees, Former Long-Term Trainees, LEAP Trainee Information, Training 02 (MCH Training Program and Healthy Tomorrows Cultural Competence), Training 03 (Healthy Tomorrows Title V Collaboration), Training 04 (Title V Collaboration), Training 07 (MCH Pipeline Program-Work with MCH Populations), Training 08 (MCH Pipeline Program-Work with underserved or vulnerable populations), Training 09 (MCH Pipeline-Graduate Program Enrollment), Training 15 (Consultation and Training for Mental and Behavioral Health), HS 04 (Intimate Partner Violence Screening), and EMSC 04 (Pediatric Medical Emergencies).

The following 3 forms are included with no substantive changes from the prior approved OMB package: Training 14 (Medium-Term Trainees Skill and Knowledge), EMSC 08 (Established Permanence of EMSC), and EMSC 09 (Established Permanence of EMSC by Integrating EMSC Priorities into Statutes/Regulations).

Additional non-substantive revisions include updates to terminology, goals, benchmark data sources, and significance sections included in the measures' detail sheets. A performance measure detail sheet defines and describes each performance measure. Forms and detail sheets showing the proposed revisions are available upon request.

Need and Proposed Use of the Information: The performance data collected through the DGIS serves several purposes, including grantee monitoring, program planning, and performance reporting, and the ability to demonstrate alignment between MCHB discretionary programs and the Title V MCH Services Block Grant program. This revision will facilitate higher quality data collection; streamlined, clear DGIS metrics; and support communications about the range of HRSA's MCH programs.

Likely Respondents: Grantees for MCHB Discretionary Grant Programs.

Burden Statement: Burden in this context means the time expended by persons to generate, maintain, retain, disclose, or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total Estimated Annualized Burden Hours
Form name | Number of respondents | Responses per respondent | Total responses | Burden hours per response | Total burden hours
Project abstract | 817 | 1 | 817 | 1.33 | 1,087
Project Abstract (Research Projects Only) | 58 | 1 | 58 | 0.66 | 38
Financial Form | 817 | 1 | 817 | 0.87 | 711
Health Equity | 817 | 1 | 817 | 0.47 | 384
Direct and Enabling Services | 476 | 1 | 476 | 1.89 | 900
Training and Workforce Development | 250 | 1 | 250 | 2.42 | 605
Partnerships and Collaboration | 380 | 1 | 380 | 1.04 | 395
Engagement of Persons with Lived Experience | 416 | 1 | 416 | 1.58 | 657
Technical Assistance | 300 | 1 | 300 | 2.24 | 672
Outreach and Education | 500 | 1 | 500 | 0.61 | 305
Research | 65 | 1 | 65 | 3.11 | 202
Guidelines and Policy | 78 | 1 | 78 | 0.70 | 55
Data and Information Systems | 50 | 1 | 50 | 0.67 | 34
Quality Improvement and Evaluation | 346 | 1 | 346 | 0.29 | 100
Knowledge Change | 200 | 1 | 200 | 1.64 | 328
Behavior Change | 200 | 1 | 200 | 1.56 | 312
Products and Publications | 672 | 1 | 672 | 4.23 | 2,843
Training Form 2 | 168 | 1 | 168 | 0.69 | 116
Training Form 3 | 41 | 1 | 41 | 0.99 | 41
Training Form 4 | 130 | 1 | 130 | 1.52 | 198
Training Form 7 | 6 | 1 | 6 | 0.83 | 5
Training Form 8 | 6 | 1 | 6 | 0.75 | 5
Training Form 9 | 6 | 1 | 6 | 0.92 | 6
Training Form 14 | 6 | 1 | 6 | 3.64 | 22
Training Form 15 | 52 | 1 | 52 | 3.17 | 165
Faculty and Staff Information | 124 | 1 | 124 | 1.92 | 238
Short-Term Trainees | 8 | 1 | 8 | 0.67 | 5
Medium-Term Trainees | 121 | 1 | 121 | 2.49 | 301
Long-Term Trainees | 112 | 1 | 112 | 6.37 | 713
Former Long-Term Trainees | 106 | 1 | 106 | 1.60 | 170
LEAP Trainee Information | 6 | 1 | 6 | 0.65 | 4
HS 4 | 101 | 1 | 101 | 0.57 | 58
HS 10 | 101 | 1 | 101 | 0.31 | 31
HS 11 | 101 | 1 | 101 | 0.61 | 62
HS 12 | 101 | 1 | 101 | 0.33 | 33
HS 13 | 101 | 1 | 101 | 0.50 | 51
HS 14 | 101 | 1 | 101 | 0.43 | 43
HS 15 | 101 | 1 | 101 | 0.45 | 45
HS 16 | 101 | 1 | 101 | 0.39 | 39
HS 17 | 101 | 1 | 101 | 0.40 | 40
HS 18 | 101 | 1 | 101 | 0.33 | 33
HS 19 | 101 | 1 | 101 | 0.38 | 38
HS 20 | 101 | 1 | 101 | 0.37 | 37
HS 21 | 101 | 1 | 101 | 0.36 | 36
Healthy Start Site Form | 101 | 1 | 101 | 0.32 | 32
EMSC 4 | 58 | 1 | 58 | 0.92 | 53
EMSC 8 | 58 | 1 | 58 | 0.09 | 5
EMSC 9 | 58 | 1 | 58 | 0.42 | 24
EMSC 10 | 58 | 1 | 58 | 0.46 | 27
Family to Family Form 1 | 59 | 1 | 59 | 2.76 | 163
Form 10 | 200 | 2 | 400 | 12.87 | 5,148
Total | * 817 |  | 817 |  | 17,615
* The number of grantees is an estimate as it fluctuates each year.

HRSA specifically requests comments on (1) the necessity and utility of the proposed information collection for the proper performance of the agency's functions; (2) the accuracy of the estimated burden; (3) ways to enhance the quality, utility, and clarity of the information to be collected; and (4) the use of automated collection techniques or other forms of information technology to minimize the information collection burden.

Maria G. Button,
Director, Executive Secretariat.

[FR Doc. 2023-09466 Filed 5-3-23; 8:45 am]

BILLING CODE 4165-15-P